DEPARTMENT OF LABOR

Employment and Training Administration

[TA-W-58,519]

Tri-Mountain Machining, Idledale, CO; Notice of Termination of Investigation

Pursuant to Section 221 of the Trade Act of 1974, as amended, an investigation was initiated on December 20, 2005 in response to a petition filed by a state workforce representative on behalf of workers at TRI-Mountain Machining, Idledale, Colorado.

The state workforce representative has requested that the petition be withdrawn. Consequently, the investigation has been terminated.

Signed at Washington, DC this 5th day of January, 2006
Elliott S. Kushner,
Certifying Officer, Division of Trade Adjustment Assistance.

[FR Doc. E6-388 Filed 1-13-06; 8:45 am]

BILLING CODE 4510-30-P